DEPARTMENT OF LABOR

Employment and Training Administration

Investigations Regarding Certifications of Eligibility To Apply for Worker Adjustment Assistance

Petitions have been filed with the Secretary of Labor under section 221(a) of the Trade Act of 1974 (“the Act”) and are identified in the Appendix to this notice. Upon receipt of these petitions, the Director of the Division of Trade Adjustment Assistance, Employment and Training Administration, has instituted investigations pursuant to section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 10, 2000.

Interested persons are invited to submit written comments regarding the subject matter of the investigations to the Director, Division of Trade Adjustment Assistance, at the address shown below, not later than October 10, 2000.

The petitions filed in this case are available for inspection at the Office of the Director, Division of Trade Adjustment Assistance, Employment and Training Administration, U.S. Department of Labor, Room C-5311, 200 Constitution Avenue, NW., Washington, DC. 20210.

Signed at Washington, D.C. this 11th day of September, 2000.
Edward A. Tomchick,
Director, Division of Trade Adjustment Assistance.

Appendix_Petitions Instituted on 09/11/2000

TA-W | Subject firm (petitioners) | Location | Date of petition | Product(s)
38,066 | Xerox Corporation (UNITE) | Oklahoma City, OK | 08/25/2000 | Toner for Xerox Equipment.
38,067 | Paccar Kenworth (Wkrs) | Seattle, WA | 08/28/2000 | Trucks.
38,068 | Boeing—Salt Lake CIty (Co.) | Salt Lake City, UT | 08/18/2000 | Aircraft.
38,069 | Asarco, Inc. (Wkrs) | East Helena, MT | 08/25/2000 | Precious Metals Smelter.
38,070 | Sharp Mfg. of America (Wkrs) | Memphis, TN | 08/19/2000 | Televisions.
38,071 | Moltech Power Systems (Co.) | Gainesville, FL | 08/30/2000 | Nickel Cadmium and Nickel Metal Hydride.
38,072 | JN Oil and Gas, Inc. (Wkrs) | Billings, MT | 08/28/2000 | Oil and Gas.
38,073 | Wolverline Worldwide (Co.) | Rockford, MI | 08/11/2000 | Shoes, Boots and Slippers.
38,074 | Contour Medical Tech. (Wkrs) | Lavergne, TN | 08/25/2000 | Cardiac Electrodes.
38,075 | Wyman Gordon (USWA) | Buffalo, NY | 08/29/2000 | Seamless Pipe.
38,076 | Union Tools (Wkrs) | Frankfort, NY | 08/25/2000 | Heavy Duty Forks for Farms and Gardens.
38,077 | Paris Accessories (UNITE) | Allentown, PA | 08/30/2000 | Non Metal Belts.
38,078 | Roanke Electrric Steel (Wkrs) | Roanke, WA | 08/28/2000 | Merchant Bar Products, Ankle Irons.
38,079 | Fawn Industries (Co). | Middlesex, NC | 09/01/2000 | Automotive Molded
38,080 | Llissa Bridals, Inc. (UNITE) | New York, NY | 08/24/2000 | Bridal Gowns.
38,081 | Bru Mar Manufacturing (Wkrs) | Allentown, PA | 08/29/2000 | Ladies' Swimsuits.
38,082 | Scotty's Fashions (Wkrs) | Palmerton, PA | 08/31/2000 | Ladies' Jackets and Blouses.
38,083 | Allegheny Ludlum Corp. (USWA) | Washington, PA | 08/30/2000 | Stainless Steel Products.
38,084 | Philips CSI (Wkrs) | Lancaster, PA | 08/14/2000 | Security Equipment.

[FR Doc. 00-25063 Filed 9-38-00; 8:45 am]

BILLING CODE 4510-30-M